POSTAL SERVICE

39 CFR Part 111

Metal Strapping Materials on Pallets

AGENCY: Postal Service.

ACTION: Proposed rule.

SUMMARY: The Postal Service proposes revisions to the Domestic Mail Manual that would exclude the use of metal strapping or metal banding material to secure pallets of mail, whether an individual pallet of mail, a pallet composed of several individual pallets stacked to form a single unit, or a pallet with a pallet box containing mail. These proposed revisions would also exclude metal buckles, seals, or other devices used to secure the ends of nonmetal strapping material used on pallets of mail. These proposed revisions would not change current approved methods or other materials for securing the mail to pallets.

Many mailers and the Postal Service are concerned about safety with the continued use of metal materials, as well as environmental issues, such as recycling. During the past 10 years, most pallet mailers and mailing operations have eliminated metal materials in favor of less expensive materials. For example, polyester, the most rigid of all strapping materials, has very good breaking strength, has only a 1-2 percent elongation, retains tension well, and has excellent recyclability properties. Although steel is the strongest of strapping materials, it is expensive, can be dangerous to work with, and difficult to recycle.

DATES: Submit comments on or before August 23, 2002.

ADDRESSES: Mail or deliver written comments to the Manager, Mail Preparation and Standards, U.S. Postal Service Headquarters, 1735 N Lynn Street, Suite 3025, Arlington, VA 22209-6038. Copies of all written comments will be available for inspection and photocopying between 9 a.m. and 4 p.m., Monday through Friday, at the Postal Service Headquarters Library, 475 L'Enfant Plaza SW., 11th Floor North, Washington, DC. Comments may also be submitted via fax to 703-292-4058, ATTN: O.B. Akinwole.

FOR FURTHER INFORMATION CONTACT: O.B. Akinwole at (703) 292-3643.

SUPPLEMENTARY INFORMATION: Current Postal Service standards for mail palletization in Domestic Mail Manual (DMM) M041, whether for individual pallets, stacked pallets, or pallet boxes, affords mailers flexibility in choices to secure mail to a pallet. For an individual pallet, mailers may choose to use only straps or bands, only plastic stretchwrap or shrinkwrap, or a combination of straps or bands and plastic wrapping material. These various materials and methods may be used for individual pallets as long as the materials and methods are strong enough to secure the mail and maintain the integrity of the pallet load during transport and handling. For several pallets stacked to form a single unit, mailers must secure the pallets with at least two straps or bands. Stretchwrap and similar plastic covering materials are not permitted for securing these pallets into a single unit. For a pallet box, mailers are required to secure the pallet only if the pallet and the pallet box containing the mail are to be transported by the Postal Service, or the weight of the mail in the box is not sufficient to hold the box in place on the pallet during transport and processing.

Metal straps, bands, buckles, or seals used to secure the ends of other nonmetal strapping material, can create serious safety hazards to personnel and equipment preparing, processing, and distributing the mail. In addition, the accumulation and disposal of metal strapping materials can create additional hazardous situations and environmental concerns. It should be noted that current Postal Service standards for packaging mail prohibit the use of metal or wire for securing mail into packages, and the standards for traying mail specify the use of plastic straps for securing tray sleeves and lids.

The Postal Service is committed to integrating safety into all postal operations, not only for its employees but also for its customers. Serious injuries, such as deep cuts, can occur when metal bands are applied, often when removed. In addition, the Postal Service is committed to conservation initiatives and supports environmentally sound practices. In keeping with these two commitments, the Postal Service believes that eliminating the use of metal straps or bands on palletized mail would improve employee and customer safety and promote better resource conservation.

Although exempt from the notice and comment requirements of the Administrative Procedure Act (5 U.S. C. of 553 (b), (c)) regarding proposed rulemaking by 39 U.S.C. 410(a), the Postal Service invites public comment of the following proposed revisions to the Domestic Mail Manual, incorporated by reference in the Code of Federal Regulations. See 39 CFR 111.1.

List of Subjects in 39 CFR Part 111

Administrative practice and procedure, Postal Service.

PART 111—[AMENDED]

1. The authority citation for 39 CFR part 111 continues to read as follows:

Authority: 5 U.S. C. 552(a); 39 U.S.C. 101, 401, 403, 404, 414, 3001-3011, 3201-3219, 3403-3406, 3621, 3626, 5001.

2. Revise the following sections of the Domestic Mail Manual (DMM) as set forth below:

Domestic Mail Manual (DMM)

* * * * *

M Mail Preparation and Sortation

M000 General Preparation Standards

* * * * *

M040 Pallets

M041 General Standards

* * * * *

1.0 PHYSICAL CHARACTERISTICS

* * * * *

1.3 Securing Pallets

[Revise 1.3 to read as follows:]

Except for stacked pallets under 3.1 and pallet boxes under 4.3, each loaded pallet of mail must be prepared to maintain the integrity of the mail and the entire pallet load during transport and handling using one of the following methods:

a. Securing with at least two straps or bands of appropriate material. Wire or metal bands, straps, buckles, seals, and similar metal fastening devices may not be used.

b. Wrapping with stretchable or shrinkable plastic.

c. Securing with at least two straps or bands of appropriate material and wrapping with stretchable or shrinkable plastic. Wire or metal bands, straps, buckles, seals, and similar metal fastening devices may not be used.

* * * * *

3.0 STACKING PALLETS

[Revise the heading of 3.1 to read as follows:]

3.1 Physical Characteristics

Pallets may be stacked two, three, or four tiers high if:

[Revise item d to read as follows:]

* * * * *

d. The stack of pallets is secured with at least two straps or bands of appropriate material to maintain the integrity of the stacked pallets during transport and handling. Wire or metal bands, straps, buckles, seals, and similar metal fastening devices may not be used. The stack of pallets may not be secured together with stretchable or shrinkable plastic.

* * * * *

4.0 PALLET BOXES

* * * * *

4.3 Securing

[Revise the introductory text in 4.3 to read as follows:]

Pallet boxes must be secured to the pallet with strapping, banding, stretchable, plastic, shrinkwrap, or other material (Wire or metal bands, straps, buckles, seals, and similar metal fastening devices may not be used.) that ensures that the pallet can be safely unloaded from vehicles, transported, and processed as a single unit to the point where the contents are distributed with the load intact if:

* * * * *

An appropriate amendment to 39 CFR 111 to reflect the changes will be published if the proposal is adopted.

Stanley F. Mires,
Chief Counsel, Legislative.

[FR Doc. 02-18732 Filed 7-23-02; 8:45 am]

BILLING CODE 7710-12-P